COMMISSION ON CIVIL RIGHTS

Sunshine Act Meeting Notice

Date and Time: Friday, Spetember 13, 2002, 10:30 a.m.

Place: Wyndham Wilmington Hotel, 700 King Street, Wilmington, DE 19801.

Status:

Agenda

I. Approval of Agenda

II. Approval of Minutes of July 19, 2002 Meeting

III. Announcements

IV. Staff Director's Report

V. FY-2004 budget Estimate to OMB

VI. State Advisory committee appointments for Georgia, New York, and Texas

VII. State Advisory Committee Report: Civil Rights Issues in West Virginia (West Virginia)

VIII. Presentations from Eastern Regional SAC members representing Delaware, Pennsylvania, New Jersey, and West Virginia on recent activities and other civil rights developments in their states, and by individuals and organizational representatives from the region on education issues.

IX. Future Agenda Items

Contact Person for Further Information: Les Jin, Press and Communications (202) 376-7700.

Debra A. Carr,
Deputy General Counsel.

[FR Doc. 02-22856 Filed 9-4-02; 4:00 pm]

BILLING CODE 6335-01-M